DEPARTMENT OF HOUSING AND URBAN DEVELOPMENT

[Docket No. FR-7090-N-09]

60-Day Notice of Proposed Information Collection: Manufactured Housing Survey; OMB Control No.: 2528-0229

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 27, 2025.

ADDRESSES: Interested persons are invited to submit comments regarding this proposal.

Written comments and recommendations for the proposed information collection can be submitted within 60 days of publication of this notice to www.regulations.gov. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Manufactured Housing Survey.

OMB Approval Number: 2528-0029.

Type of Request: Revision of a currently approved collection.

Form Number: C-MH-9A.

Description of the need for the information and proposed use: The Manufactured Housing Survey collects data on the characteristics of newly manufactured homes placed for residential use. Key data collected includes sales price and the number of units placed and sold within 4 months of shipment. Other selected housing characteristics collected include size, location, and titling. HUD is authorized to collect these statistics under the “Housing and Community Development Act of 1980,” Title 42 U.S.C. 5424 note (see Attachment 3), which provides the Secretary discretion to take necessary actions to ensure the public is aware of the distinctions between the types of factory-built housing. This allows HUD to collect and report manufactured home sales price information for the nation, Census Regions, States, and selected metropolitan statistical areas, and to monitor whether new manufactured homes are being placed on owned rather than rented lots. HUD also used these data to monitor total housing production and its affordability.

Furthermore, the Manufactured Housing Survey serves as a basis for HUD's mandated indexing of loan limits. Section 2145 (b) of the Housing and Economic Recovery Act (HERA) of 2008 requires HUD to develop a method of indexing to annually adjust Title I manufactured home loan limits. This index is partially based on manufactured housing price data collected by this survey. Section 2145 of the HERA of 2008 also amends the maximum loan limits for manufactured home loans insured under Title I. The Final Rule, entitled Indexing Methodology for Title I Manufactured Home Loan Limits, was published in the Federal Register on February 28, 2024. This Rule established separate indexing methodologies to annually calculate future loan limits for Manufactured Homes Loans, Manufactured Lot Loans and Manufactured Home and Lot Combination Loans for the Title I Manufactured Home Loan Program. Single- and double-section price data from this survey are used to determine maximum loan amounts for Title I Manufactured Home Loans. HUD implemented the revised loan limits, as shown below, for all manufactured home loans for which applications are received on or after March 29, 2024.

Loan type | Purpose | Old loan limit | New loan limit
MANUFACTURED HOME IMPROVEMENT LOAN | For financing alterations, repairs and improvements upon or in connection with existing manufactured homes | $25,090 | $25,090.
MANUFACTURED HOME UNIT(S) | To purchase or refinance a Manufactured Home unit (s) | 69,678 | Single-section: $105,532. Multi-section: $193,719.
LOT LOAN | To purchase and develop a lot on which to place a manufactured home unit | 23,226 | $43,377.
COMBINATION LOAN FOR LOT AND HOME | To purchase or refinance a manufactured home and lot on which to place the home | 92,904 | Single-section: $148,909. Multi-section: $237,096.

Method of Collection

The methodology for collecting information on new manufactured homes involves contacting dealers from a monthly sample of new manufactured homes shipped by manufacturers. The units are sampled from lists obtained from the Institute for Building Technology and Safety. Dealers that take shipment of the selected homes are mailed a survey form four months after shipment for recording the status of the manufactured home.

Respondents: Business firms or other for-profit institutions.

Respondent's Obligation: Voluntary.

Estimated Number of Respondents: 4,860.

Frequency of Response: Once.

Average Hours per Response: 20 minutes per response (.33 hour).

Estimated Total Annual Burden Hours: 1,620.

Estimated Total Annual Cost: $58,547. (We do not expect respondents to incur any costs other than that of their time to respond. The estimated hourly cost per response is $36.14, which is the hourly rate for typical respondent: Occupational code 41-4010: Sales Representatives, Wholesale and Manufacturing. The estimate total annual cost burden to respondents is $58,547, which is not a direct financial cost of respondents' time, but rather the associated cost burden of the respondents' voluntary responses.)

Total Estimated Burdens
Information collection | Number of respondents | Frequency of response | Responses per annum | Burden hour per response | Annual burden hours | Hourly cost per response | Annual cost
Manufactured Housing Survey | 4,860 | 1 | 4,860 | 0.33 | 1,620 | $36.14 | $58,547

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd M. Richardson,
General Deputy Assistant Secretary for Policy Development and Research

[FR Doc. 2024-27789 Filed 11-26-24; 8:45 am]

BILLING CODE 4210-67-P